DEPARTMENT OF TRANSPORTATION

Federal Aviation Administration

14 CFR Part 39

[Docket No. 2002-NE-13-AD; Amendment 39-12946; AD 2002-23-02]

RIN 2120-AA64

Airworthiness Directives; General Electric Company CF34-8C1 Turbofan Engines, Correction

AGENCY: Federal Aviation Administration, DOT.

ACTION: Final rule; correction.

SUMMARY: This document makes a correction to Airworthiness Directive (AD) 2002-23-09 applicable to General Electric Company CF34-8C1 turbofan engines that was published in the Federal Register on November 20, 2002 (67 FR 70004). Table 801 was incorrectly numbered in three locations in the AD. This document corrects that number. In all other respects, the original document remains the same.

EFFECTIVE DATE: December 26, 2002.

FOR FURTHER INFORMATION CONTACT: Keith Mead, Aerospace Engineer, Engine Certification Office, FAA, Engine and Propeller Directorate, 12 New England Executive Park, Burlington, MA 01803-5299; telephone (781) 238-7744; fax (781) 238-7199.

SUPPLEMENTARY INFORMATION: A final rule AD, FR Doc, 02-29355 applicable to General Electric Company CF34-8C1 turbofan engines was published in the Federal Register on November 20, 2002 (67 FR 70004). The following correction is needed:

§ 39.13 [Corrected]

On page 70005, in the first column, in the Comments Section, in the fourth paragraph, in the eighth and again in the thirteenth lines, “Table 805” is corrected to read “Table 801”. Also on page 70005, in the third column in the ninth paragraph, “Table 805” is corrected to read “Table 801”.

Dated: Issued in Burlington, MA, on December 4, 2002.
Francis A. Favara,
Assistant Manager, Engine and Propeller Directorate, Aircraft Certification Service.

[FR Doc. 02-31173 Filed 12-10-02; 8:45 am]

BILLING CODE 4910-13-P